DEPARTMENT OF THE INTERIOR

Bureau of Land Management

[LLORW00000 L12200000.AL0000; GP9-0335]

Notice of Public Meeting, Eastern Washington Resource Advisory Council Meeting

AGENCY: Bureau of Land Management, Interior.

ACTION: Notice of public meeting.

SUMMARY: In accordance with the Federal Land Policy and Management Act of 1976 and the Federal Advisory Committee Act of 1972, the U.S. Department of the Interior, Bureau of Land Management (BLM) Eastern Washington Resource Advisory Council will meet as indicated below.

DATES: September 24-25, 2009.

SUPPLEMENTARY INFORMATION: The meeting will be open to the public. It will begin at 1 p.m. and end at 4 p.m. on September 24, and begin at 8 p.m. and end at 12 p.m. on September 25. The meeting will be held at The Nature Conservancy Whisper Lake facility, which is approximately 25 miles southwest of Coulee City, WA. Topics of discussion will include special status species, grazing management, and resource management planning. If members of the public are interested in participating, please call the Spokane District Office at (509) 536-1200 for details.

FOR FURTHER INFORMATION CONTACT: BLM Spokane District, 1103 N. Fancher Rd., Spokane Valley, WA 99212, or call (509) 536-1200.

Dated: August 21, 2009.
Sally Sovey,
Acting District Manager.

[FR Doc. E9-20661 Filed 8-26-09; 8:45 am]

BILLING CODE 4310-33-P